DEPARTMENT OF HOMELAND SECURITY

[Docket No. DHS-2025-0024]

Homeland Security Advisory Council; Notice of Meeting

AGENCY: Office of Partnership and Engagement, Department of Homeland Security.

ACTION: Notice of Open Federal Advisory Committee meeting.

SUMMARY: The Office of Partnership and Engagement is publishing this notice to announce that the Homeland Security Advisory Council will meet in person on Monday, June 30, 2025. This meeting will be open to the public via livestream. This meeting will be led by senior leadership of Homeland Security. Senior Leadership will introduce the new Chair and Vice Chair of the Council, and the Council will discuss the Council's purpose, focus, and potential taskings.

DATES: Meeting Registration: Registration to attend the meeting is required and must be received via email no later than 5 p.m. Eastern Daylight Time on Friday, June 27, 2025. The meeting will take place from 1 p.m. to 4 p.m. Eastern Daylight Time on Monday, June 30, 2025. The meeting will be open to the public via livestream. The meeting may end early if the Council has completed its business.

ADDRESSES: The Council meeting will be held at the Department of Homeland Security—St. Elizabeths Campus in Washington, DC. Members of the public may attend via livestream following the process outlined below. For those attending the meeting you will be in listen-only mode.

FOR FURTHER INFORMATION CONTACT: Alexander Jacobs, Alternate Designated Federal Officer, Homeland Security Advisory Council at (202)269-2419 or HSAC@hq.dhs.gov.

SUPPLEMENTARY INFORMATION: The Council provides organizationally independent, strategic, timely, specific, actionable advice, and recommendations to the Secretary of Homeland Security on matters related to homeland security. The Council serves strictly as an advisory body with the purpose of providing advice upon request of the Secretary. The Council members shall all be national leaders drawn from the following fields: police, fire, emergency medical services and public works; public health; non-profit organizations; state, local, and tribal officials; national policy makers; experts in academia and the research community; and leaders from the private sector.

Notice of this meeting is given under Section 10(a) of the Federal Advisory Committee Act, Public Law 92-463 (5 U.S.C. Ch. 10), which requires each council meeting to be open to the public unless the President, or the head of the agency to which the advisory council reports, determines that a portion of the meeting may be closed to the public in accordance with 5 U.S.C. 552b(c).

Agenda: The Council will meet in an open session from 1 p.m. until 4 p.m. Eastern Daylight Time. The meeting will include: (1) the swearing in of members; (2) remarks from the Senior Leadership; (3) introduction of and opening remarks by the Chair and Vice Chair; and (4) discussion of the Council's purpose, focus, and potential taskings. The meeting may end early if the Council has completed its business.

Meeting instructions for virtual attendance. Members of the public may register to observe in this Council meeting via livestream under the following procedures. Each individual must provide their full legal name and email address no later than 5 p.m. Eastern Daylight Time on Friday, June 27, 2025, to Alexander Jacobs, Alternate Designated Federal Officer of the Homeland Security Advisory Council, via email to HSAC@hq.dhs.gov. Members of the public who have registered to observe will be provided the agenda, and livestream link. For more information about the Homeland Security Advisory Council, please visit our website: https://www.dhs.gov/homeland-security-advisory-council.

The Council is committed to ensuring all participants have equal access regardless of disability status. If you require a reasonable accommodation due to a disability to fully participate, please contact Alexander Jacobs at HSAC@hq.dhs.gov as soon as possible.

Dated: June 10, 2025.
Alexander L. Jacobs,
Alternate Designated Federal Officer, Homeland Security Advisory Council, Department of Homeland Security.

[FR Doc. 2025-10924 Filed 6-13-25; 8:45 am]

BILLING CODE 9112-FN-P